DEPARTMENT OF HEALTH AND HUMAN SERVICES

Centers for Disease Control and Prevention

[Program Announcement 04084]

Development and Testing of New Antimalarial Drugs; Notice of Intent To Fund Single Eligibility Award

A. Purpose

The Centers for Disease Control and Prevention (CDC) announces the intent to fund fiscal year (FY) 2004 funds for a cooperative agreement program to support research projects to develop and test new antimalarial drugs. The Catalog of Federal Domestic Assistance number for this program is 93.283.

B. Eligible Applicant

Assistance will be provided only to the University of Mississippi. The FY 2000 United States Senate Labor-Health and Human Services Appropriations Report: Report 106-166 (S 1650), recognized the unique qualifications of the consortium headed by the University of Mississippi School of Pharmacy, that includes the Department of Medicinal Chemistry the Laboratory for Applied Drug Design and Synthesis, the Thad Cochran Center for Natural Products, the Tulane University Center for Infectious Diseases and the Tulane National Primate Research Center for carrying out the activities specified in this cooperative agreement and directed CDC to provide research funding to the consortium. These organizations in the past three years have worked in a unique partnership through a CDC cooperative agreement to analyze and use natural products as antimalarial agents, set-up state of the art chemical synthesis and organic product laboratories, refine lead drug candidates and target molecules, conduct and organize phase I and II clinical trials, and conduct in-vitro and in-vivo therapeutic evaluations of drug activities and efficacies. No other consortia of this type or identity as headed by the University of Mississippi School of Pharmacy exists at this time in the public/academic realm that has all these elements working together as a unit, which is necessary to conduct rationale drug development. House Report 108-401 directed the continuation of this work in FY 2004. The project supports the ongoing activities of CDC in the global control and prevention of malaria and the goals to protect Americans from infectious diseases and reduce the spread of anti-microbial resistance.

C. Funding

Approximately $5,000,000 is available in FY 2004 to fund this award. It is expected that the award will begin on or before August 1, 2004, and will be made for a 12-month budget period within a project period of up to five years. Funding estimates may change.

D. Where To Obtain Additional Information

For general comments or questions about this announcement, contact: Technical Information Management, CDC Procurement and Grants Office, 2920 Brandywine Road, Atlanta, GA 30341-4146, telephone: 770-488-2700.

For technical questions about this program, contact: John W. Barnwell, Ph.D., MPH, Project Officer, 4770 Buford Highway, Atlanta, GA 30341, telephone: 770-488-4528, e-mail: wzb3@cdc.gov.

Dated: April 19, 2004.
William P. Nichols,
Acting Director, Procurement and Grants Office, Centers for Disease Control and Prevention.

[FR Doc. 04-9239 Filed 4-22-04; 8:45 am]

BILLING CODE 4163-18-P